DEPARTMENT OF AGRICULTURE

Natural Resources Conservation Service

Adoption of Final Environmental Impact Statement (DOI-BLM-ID-B000-2014-0002-EIS) Prepared for the Bruneau-Owyhee Sage-Grouse Habitat Project

AGENCY: Natural Resources Conservation Service (NRCS), U.S. Department of Agriculture (USDA).

ACTION: Notice of Intent (NOI) to Adopt Final Environmental Impact Statement (FEIS).

SUMMARY: NRCS announces its intent to adopt the FEIS, titled “Bruneau-Owyhee Sage-grouse Habitat Project” (BOSH), prepared by the U.S. Department of the Interior Bureau of Land Management (BLM), under the provisions of the Council on Environmental Quality (CEQ) regulations. The proposed action will improve and maintain suitable sage-grouse habitat within southwestern Idaho by removing early stage encroaching western juniper.

DATES: We will consider comments that we receive by December 12, 2019.

ADDRESSES: We invite you to submit comments on this notice. In your comments, include the volume, date, and page number of this issue of the Federal Register. Comments may be submitted by any of the following methods:

• Federal eRulemaking Portal: Go to http://www.regulations.gov and search for Docket ID NRCS-2019-0018. Follow the instructions for submitting comments.

• Mail, or Hand Delivery: Trisha Cracroft, State Biologist, Natural Resources Conservation Service, 9173 or W Barnes Drive, Suite C Boise, Idaho 83709.

NRCS will post all comments on http://www.regulations.gov. In general, personal information provided with comments will be posted. If your comment includes your address, phone number, email, or other personal identifying information (PII), your comments, including PII, may be available to the public. You may request that your PII be withheld from public view, but this cannot be guaranteed. The copies of the BOSH FEIS is available at https://eplanning.blm.gov/epl-front-office/eplanning/planAndProjectSite.do?methodName=dispatchToPatternPage&currentPageId=56816.

FOR FURTHER INFORMATION CONTACT: Trisha Cracroft, State Biologist, NRCS, at (208) 378-5725 or trisha.cracroft@id.usda.gov. Persons with disabilities who require alternative means for communication should contact the USDA Target Center at (202) 720-2600 (voice).

SUPPLEMENTARY INFORMATION: NRCS announces its intent to adopt the Bruneau-Owyhee Sage-grouse Habitat Project Final EIS, as prepared by the U.S. Department of the Interior Bureau of Land Management (BLM), under the provisions of the CEQ regulations (40 CFR 1506.3). In response to the threat of sagebrush steppe habitat loss posed by the encroachment of western juniper, the proposed action is vegetative treatments to address early stage juniper encroachment in southwestern Idaho in order to maintain and improve sagebrush steppe habitat for the benefit of sage-grouse and other wildlife that rely on these habitats. Treatment methods would include cutting junipers with handsaws or chainsaws, lopping with pruning shears, and using heavy equipment such as a track-hoe fitted with a grinding implement (masticator) or a shearing implement (large, powerful pruning shears). Material may be scattered on site and left in place, or the material may be piled and burned or jackpot burned. Jackpot burning is a type of prescribed fire used to reduce concentrations (or jackpots) of vegetative fuel. Jackpot burning consumes surface fuels but not the overstory vegetation and is used following a pre-treatment such as thinning and/or pile burning to further reduce the surface fuels, help maintain the desired vegetation conditions and enhance the overall health and resiliency of the plant community. Old growth juniper would not be cut or burned regardless of encroachment phase, proximity to leks, or proximity to sage-grouse migration corridors. Cut juniper would be burned in areas near roads for public and fire fighter safety, areas where viewshed issues are a concern, and/or areas where fuel loading is a concern. Burning may also be completed to remove slash from meadow areas that would provide suitable sage-grouse brood rearing habitat. Jackpot and pile burning would take place once the juniper biomass has dried sufficiently and when soils are moist, frozen, or covered by snow. Project implementation would be in accordance with the methods (Section 2.2.4 in the FIES) and design features (Section 2.2.5 in the FEIS) to minimize or eliminate adverse impacts by the proposed action to the identified resources (i.e., cultural resources, soils, vegetation, wildlife).

Sage-grouse inhabit sagebrush ecosystems that are at risk from juniper encroachment in areas including southwest Idaho and the BOSH project area. The BOSH project will improve and maintain suitable sage-grouse habitat by removing early stage encroaching western juniper on BLM-managed lands within the Bruneau and Owyhee field office boundaries in southwest Idaho. As described in the FEIS the project is 1.67 million acres with up to 726,000 acres proposed for treatment. Privately-owned land within the project area totals 241,820 acres. Private landowners in the project area may voluntarily choose to conduct the vegetative treatments described above on their own lands. NRCS proposes to provide technical and financial assistance through Farm Bill conservation program contracts with landowners to implement these vegetative treatments to remove early stage encroaching juniper for the purpose of improving sagebrush habitat. Each landowner will be responsible for ensuring that treatment methods meet NRCS conservation practice standards and specifications and may choose to do the work themselves, hire a contractor or coordinate with BLM (or its contractors) to complete the vegetative treatments.

Prior to recommending adoption, NRCS completed an internal checklist per NRCS's Title 190—, National Environmental Compliance Handbook, Part 610, subpart F, section 610.83(D) and subpart H, section 610.134. NRCS was not a cooperating agency on the development of the FEIS. NRCS proposed action is substantially similar to that analyzed in the FEIS therefore, it was determined that the FEIS does not need to be supplemented prior to adoption because circumstances have not changed nor is there new information indicating a new or supplemental EIS should be prepared.

NRCS requests feedback from the public, other agencies, tribes, and other interested parties on the proposal to adopt the BOSH FEIS, the FEIS itself, and any associated issues and concerns.

Mary Goode,
Acting Idaho State Conservationist, Natural Resources Conservation Service.

[FR Doc. 2019-24576 Filed 11-8-19; 8:45 am]

BILLING CODE 3410-16-P